DEPARTMENT OF COMMERCE

Foreign-Trade Zones Board

[S-192-2023]

Approval of Expansion of Subzone 144C; Orgill, Inc.; Tifton, Georgia

On September 28, 2023, the Executive Secretary of the Foreign-Trade Zones (FTZ) Board docketed an application submitted by the Brunswick and Glynn County Development Authority, grantee of FTZ 144, requesting an expansion of Subzone 144C subject to the existing activation limit of FTZ 144, on behalf of Orgill, Inc., in Tifton, Georgia.

The application was processed in accordance with the FTZ Act and Regulations, including notice in the Federal Register inviting public comment (88 FR 69116, October 5, 2023). The FTZ staff examiner reviewed the application and determined that it meets the criteria for approval. Pursuant to the authority delegated to the FTZ Board Executive Secretary (15 CFR 400.36(f)), the application to expand Subzone 144C was approved on December 26, 2023, subject to the FTZ Act and the Board's regulations, including section 400.13, and further subject to FTZ 144's 2,000-acre activation limit.

Dated: December 26, 2023.
Camille R. Evans,
Acting Executive Secretary.

[FR Doc. 2023-28811 Filed 12-29-23; 8:45 am]

BILLING CODE 3510-DS-P